DEPARTMENT OF AGRICULTURE

Forest Service

Notice of Resource Advisory Committee Meeting

AGENCY: Crook County Resource Advisory Committee, Sundance, Wyoming, Forest Service, USDA.

ACTION: Notice of meeting.

SUMMARY: Pursuant to the authorities in the Federal Advisory Committee Act (Public Law 92-463) and under the Secure rural schools and Community Self-Determination Act of 2000 (Public Law 106-393) the Black Hills National Forests' Crook County Resource Advisory Committee will meet Monday, January 20, 2003 in Sundance, Wyoming for a business meeting. The meeting is open to the public.

SUPPLEMENTARY INFORMATION: The business meeting on January 20, begins at 6:30 p.m., at U.S. Forest Service, Barlodge Ranger District Office, 121 South 21st Street, Sundance, Wyoming. Agenda topics will include deciding on project selection criteria, Review of NEPA requirements, review of project proposals and scheduling of future meetings. A public forum will begin at 8:30 p.m. (MT).

FOR FURTHER INFORMATION CONTACT: Steve Kozel, Bearlodge District Ranger and Designated Federal Office at (307) 283-1361.

Dated: December 9, 2002.
Steve Kozel,
Bearlodge District Ranger.

[FR Doc. 02-31746 Filed 12-7-02; 8:45 am]

BILLING CODE 3410-11-M